DEPARTMENT OF TRANSPORTATION

Federal Highway Administration

Notice of Final Federal Agency Actions on Proposed Transportation Project in California

AGENCY: Federal Highway Administration (FHWA), DOT.

ACTION: Notice; correction.

SUMMARY: This Notice corrects the website address by which the original Notice of Limitations for the California Department of Transportation's (Caltrans) final agency action was posted on August 7, 2025.

DATES: A claim seeking judicial review of the Federal Agency actions on the listed highway project will be barred unless the claim is filed on or before February 4, 2026. If the Federal law that authorizes judicial review of a claim provides a time period of less than 150 days for filing such claim, then that shorter time period still applies.

ADDRESSES: The ROD issued by Caltrans as a cooperating agency is solely for the project's encroachment into Caltrans ROW, and additional project documents can be viewed and downloaded from the project website at: https://www.metro.net/projects/southeastgateway/#documents or https://tinyurl.com/SGLROD for direct access to the Caltrans ROD.

FOR FURTHER INFORMATION CONTACT: Thoa Le, Senior Environmental Scientist, telephone: (213) 269-0238, email: thoa.le@dot.ca.gov during normal business hours from 9 a.m. to 5 p.m.

SUPPLEMENTARY INFORMATION: On August 7, 2025, at 90 FR 38203, FHWA in coordination with Caltrans published a Notice of Limitation on claims for judicial review of Caltrans' final agency actions subject to 23 U.S.C. 139(l)(1) for issuing licenses, permits, or approvals for the proposed LRT project. That Notice incorrectly listed the website address for the Caltrans ROD. This Notice corrects that error and establishes a judicial claim period with an end date of February 4, 2026.

Antonio Johnson,
Director of Planning, Environmental and Right of Way, Federal Highway Administration, California Division.

[FR Doc. 2026-01683 Filed 1-27-26; 8:45 am]

BILLING CODE 4910-RY-P